DEPARTMENT OF HOUSING AND URBAN DEVELOPMENT

[Docket No. FR-4912-N-01]

Notice of Availability of a Draft Generic Environmental Impact Statement for the World Trade Center Memorial and Redevelopment Plan in the Borough of Manhattan, City of New York, NY

AGENCY: Office of the Assistant Secretary for Community Planning and Development, HUD.

ACTION: Notice.

SUMMARY: The Department of Housing and Urban Development (HUD) gives notice to the public, agencies, and Indian tribes that a draft Generic Environmental Impact Statement (Draft GEIS) for the World Trade Center Memorial and Redevelopment Plan will be available for review and comment on January 21, 2004. This notice is given on behalf of the Lower Manhattan Development Corporation (LMDC). The LMDC is a subsidiary of the Empire State Development Corporation (a political subdivision and public benefit corporation of the State of New York). As the recipient of HUD Community Development Block Grant funds appropriated for World Trade Center disaster recovery and rebuilding efforts, LMDC acts, pursuant to 42 U.S.C. 5304(g), as the responsible entity for compliance with the National Environmental Policy Act (NEPA) in accordance with 24 CFR 58.4. LMDC also acts under its authority as lead agency in accordance with the New York State Environmental Quality Review Act. The Draft GEIS will also be prepared in cooperation with the Port Authority of New York and New Jersey. This notice is given in accordance with the Council on Environmental Quality Regulations at 40 CFR part 1500-1508.

DATES: Comment Due Date: Comments must be received by 5 p.m. Eastern Standard Time on March 15, 2004. Comments received after 5 p.m. e.s.t. on March 15, 2004, will not be considered. Written comments on the Draft GEIS will be accepted at the following address: Lower Manhattan Development Corporation, Attention: Comments WTC Memorial and Redevelopment Plan/DGEIS, One Liberty Plaza, 20th Floor, New York, NY 10006.

Comments on the Draft GEIS may also be submitted until 5 p.m. e.s.t. on March 15, 2004, through LMDC's Web site, http://www.renewnyc.com/plan_des_dev/frm_comments.asp, by choosing the category “Environmental/Plan Review.”

Public Hearing: To ensure public participation on the Draft GEIS, two public hearings will be held on February 18, 2004, at the Michael Schimmel Center for the Arts at Pace University located in Lower Manhattan at Spruce Street between Park Row and Gold Street, New York, NY, from 1 p.m. to 5 p.m. and starting at 6 p.m.

Directions: The Schimmel Center is accessible to public transportation, including the subway to Park Place via 1/9, 2/3, Brooklyn Bridge/City Hall via 4/5/6, and Broadway/Nassau Street via A/C.

The public meeting site is accessible to the mobility-impaired. Interpreter services will be available for the hearing-impaired upon advance request.

FOR FURTHER INFORMATION CONTACT: Further information and a copy of the Draft GEIS may be obtained by contacting: William H. Kelley, Planning Project Manager, Lower Manhattan Development Corporation, One Liberty Plaza, 20th Floor, New York, NY 10006; Telephone: (212) 962-2300; Fax: (212) 962-2431; E-mail: wtcenvironmental@renewnyc.com. A copy of the Draft GEIS is also available on LMDC's Web site: http://www.RenewNYC.com in the “Planning, Design & Development” section. Copies of the Draft GEIS may be purchased for the cost of reproduction.

A copy of the Draft GEIS is also available for public review at the following locations:

Chatham Square Library,

33 East Broadway,

New York, NY 10002

New Amsterdam Library,

9 Murray Street,

New York, NY 10007

Hamilton Fish Library,

415 East Houston Street,

New York, NY 10002

Hudson Park Library,

66 Leroy Street,

New York, NY 10007

Community Board #1,

49-51 Chambers Street #715,

New York, NY 10007

Community Board #2,

3 Washington Square Park,

New York, NY 10012

Community Board #3,

59 East 4th Street,

New York, NY 10003

SUPPLEMENTARY INFORMATION: The World Trade Center Memorial and Redevelopment Plan (Proposed Action) would provide for the construction on the Project Site of a World Trade Center Memorial (Memorial) and memorial-related improvements, up to 10 million square feet of above-grade Class A office space, plus associated below-grade parking, storage, mechanical, loading, and other non-office space, up to 1 million square feet of retail space, a hotel with up to 800 rooms and up to 150,000 square feet of conference space, new open space areas, museum and cultural facilities, and certain infrastructure improvements. The proposed action would be assisted in part by HUD Community Development Block Grant funds appropriated by Congress for World Trade Center disaster recovery and rebuilding efforts.

The Project Site consists of the World Trade Center Site (WTC Site) and the Adjacent Sites in Lower Manhattan, New York, New York. The WTC Site is an approximately 16 acre parcel bounded by Liberty Street, Church Street, Vesey Street, and Route 9A. The Adjacent Sites include the Southern Site and the below-grade portion of Site 26 at Battery Park City. The Southern Site comprises two adjacent blocks south of the WTC Site—one bounded by Liberty, Washington, Albany, and Greenwich Streets, and the other bounded by Liberty, Cedar, and Washington Streets and Route 9A—and portions of two streets: Liberty Street between those blocks and the WTC Site, and Washington Street between Cedar and Liberty Streets. Site 26 is bounded by the one-half block of North End Avenue, Murray and Vesey Streets, and Route 9A on the eastern side of the Embassy Suites Hotel.

The proposed design would extend Fulton and Greenwich Streets through the WTC Site, dividing the site into quadrants. The Memorial, museum, and cultural buildings would occupy the southwest quadrant where the Twin Towers once stood. At the northwest corner of the WTC Site would be the tallest structure in the complex, Freedom Tower. The three other proposed towers would descend in height clockwise to the fifth tower on the Southern Site.

The Southern Site would be reconfigured by the opening of Cedar Street between Greenwich and Washington Streets and the closing of Washington Street between Liberty and Cedar Streets. This would allow the creation of a single large open space on the new block south of Liberty Street as well as the tower site between Cedar and Albany Streets.

The Proposed Action also provides for infrastructure and utilities to support the operations of the Project Site as a whole, including below-grade freight servicing and loading and a below-grade bus parking garage serving the Memorial, a parking garage for building tenants and safety and security-related facilities.

The Draft GEIS analyzes the Proposed Action's potential impacts to land use and public policy, urban design and visual resources, historic resources, open space, shadows, community facilities, socioeconomic conditions, neighborhood character, hazardous materials, infrastructure/safety/security, traffic and parking, transit and pedestrians, air quality, noise, coastal zone, floodplain, natural resources, electromagnetic fields, environmental justice, and construction. The Draft GEIS also considers mitigation measures, alternatives, unavoidable adverse impacts, short-term effects vs. long-term benefits, irreversible and irretrievable commitments of resources, indirect and cumulative effects and other areas of potential environmental impact.

Alternatives that will be looked at in the Draft GEIS will include a no-action alternative, and a reasonable range of other alternatives, including a Memorial-only alternative, a restoration alternative, a rebuilding alternative, a WTC Site-only alternative, an enhanced green construction alternative, and a reduced impact alternative.

The estimated total cost for construction of the Proposed Action is expected to be in excess of $8 billion.

Questions may be directed to the individual named above under the heading “For Further Information Contact.”

Dated: January 16, 2004.
Roy A. Bernardi,
Assistant Secretary for Community Planning and Development.

[FR Doc. 04-1443 Filed 1-22-04; 8:45 am]

BILLING CODE 4210-29-P